DEPARTMENT OF COMMERCE

Bureau of Industry and Security

Action Affecting Export Privileges; Corezing International; Kow Seng Lim; Zhenyong Zhou; Jie Luo; Insight Electronics Pte Ltd.; Action Global Co., Limited

In the Matter of:

Corezing International

a/k/a Corezing Technology Pte Ltd

a/k/a Corezing International Pte Ltd

a/k/a Core Zing

a/k/a CoreZing Electronics

a/k/a Corezing International Group Company

2021 Butik Batok Street 23, #02-212, Singapore 659626;

111 North Bridge Road, #27-01 Peninsula Plaza, Singapore 179098;

50 East Coast Road, #2-70 Roxy Square, Singapore 428769;

Block 1057 Eunos, Avenue 3 #02-81, Singapore 409848;

G/F, No. 89, Fuyan Street, Kwun Tong, Hong Kong;

Flat 12, 9F Po Hong Kong, 2 Wang Tung Street, Kowloon Bay, Hong Kong;

Flat/RM B 8/F, Chong Ming Bldg., 72 Cheung Sha Wan Road, KL, Hong Kong;

Flat/RM 2309, 23/F, Ho King COMM Center 2-16 Fa Yuen Street, Mongkok KLN, Hong Kong

Room 1007, Block C2, Galaxy Century Bldg., CaiTian Rd., FuTian District, Shenzhen, China;

Room 1702, Tower B, Honesty Building, Humen, Dongguan, Guangdong, China.

Kow Seng Lim

a/k/a Eric Lim

a/k/a James Wong

a/k/a Alvin Stanley

2021 Butik Batok Street 23, #02-212, Singapore 659626; Block 751 Woodlands Circle, #10-592, Singapore 730751.

Zhenyong Zhou

a/k/a Benny Zhou

Flat/RM B 8/F, Chong Ming Bldg., 72 Cheung Sha Wan Road KL, Hong Kong;

Room 502, Block 3, Huzhong Emporium, Humen Town, Dongguang City Guangdong, China.

Jie Luo

a/k/a Ivy Luo

G/F, No. 89, Fuyan Street, Kwun Tong, Hong Kong;

Flat 12, 9F Po Hong Kong, 2 Wang Tung Street, Kowloon Bay, Hong Kong;

Flat/RM B 8/F, Chong Ming Bldg., 72 Cheung Sha Wan Road, KL, Hong Kong;

Flat/RM 2309, 23/F, Ho King COMM Center 2-16 Fa Yuen Street, Mongkok KLN, Hong Kong;

RenCai ShiChang DaSha (Building, Baoanbei Road, Luohu Qu, Shenzhen City, Guangdong, China.

Insight Electronics Pte Ltd.,

20 Ang Mo Kio Industrial Park 2A, #04-28, AMK Tech Link Singapore 555854;

54 Serangoon North Ave 4, Unit 06-31, Cyberhub North Singapore 555854.

Action Global Co., Limited

C/O Win Sino

Flat 12, 9/F, PO Hong Centre, 2 Wang Tung Street, Kowloon Bay KLN, Hong Kong;

Flat/RM 1510A, 15/F Ho King COMM Ctr, 2-16 Fa Yuen Street Mongkok, KL, Hong Kong;

520 Sims Avenue, #02-04, Singapore 387580.

Respondents.

Order Temporarily Denying Export Privileges

Pursuant to Section 766.24 of the Export Administration Regulations (“EAR” or the “Regulations”),¹ the Bureau of Industry and Security (“BIS”), U.S. Department of Commerce, through its Office of Export Enforcement (“OEE”), has requested that I issue an Order temporarily denying, for a period of 180 days, the export privileges under the EAR of:

¹ The EAR is currently codified at 15 CFR Parts 730-774 (2009). The EAR are issued under the Export Administration Act of 1979, as amended (50 U.S.C. app. sections 2401-2420 (2000)) (“EAA”). Since August 21, 2001, the Act has been in lapse and the President, through Executive Order 13222 of August 17, 2001 (3 CFR, 2001 Comp. 783 (2002)), which has been extended by successive presidential notices, the most recent being that of August 13, 2009 (74 FR 41,325 (August 14, 2009)), has continued the Regulations in effect under the International Emergency Economic Powers Act (50 U.S.C. 1701, et seq.) (“IEEPA”).

1. Corezing International, also known as (“a/k/a”) Corezing Technology Pte Ltd., a/k/a Corezing International Pte Ltd., a/k/a Core Zing, a/k/a CoreZing Electronics, and a/k/a Corezing International Group Company (collectively referred to herein as “Corezing”): 2021 Butik Batok Street 23, #02-212, Singapore 659626; 111 North Bridge Road, #27-01 Peninsula Plaza, Singapore 179098 50 East Coast Road, #2-70 Roxy Square, Singapore 428769; Block 1057 Eunos, Avenue 3#02-81, Singapore 409848; G/F, No. 89, Fuyan Street, Kwun Tong, Hong Kong; Flat 12, 9F Po Hong Kong, 2 Wang Tung Street, Kowloon Bay, Hong Kong; Flat/RM B 8/F, Chong Ming Bldg., 72 Cheung Sha Wan Road, KL, Hong Kong; Flat/RM 2309, 23/F, Ho King COMM Center 2-16 Fa Yuen Street, Mongkok KLN Hong Kong; Room 1007, Block C2, Galaxy Century Bldg., CaiTian Rd., FuTian District, Shenzhen, China; Room 1702, Tower B, Honesty Building, Humen, Dongguan, Guangdong, China

2. Kow Seng Lim a/k/a Eric Lim, a/k/a James Wong and a/k/a Alvin Stanley: 2021 Butik Batok Street 23, #02-212, Singapore 659626; Block 751 Woodlands Circle, #10-592, Singapore 730751

3. Zhenyoug Zhou a/k/a Benny Zhou: Flat/RM B 8/F, Chong Ming Bldg., 72 Cheung Sha Wan Road, KL, Hong Kong; Room 502, Block 3, Huzhong Emporium, Humen Town, Dongguang City, Guangdong, China

4. Jie Luo a/k/a Ivy Luo: G/F, No. 89, Fuyan Street, Kwun Tong, Hong Kong Flat 12, 9F Po Hong Kong, 2 Wang Tung Street, Kowloon Bay, Hong Kong Flat/RM B 8/F, Chong Ming Bldg., 72 Cheung Sha Wan Road, KL, Hong Kong Flat/RM 2309, 23/F, Ho King COMM Center 2-16 Fa Yuen Street, Mongkok KLN, Hong Kong RenCai ShiChang DaSha (Building), Baoanbei Road, Luohu Qu, Shenzhen City Guangdong, China

5. Insight Electronics Pte Ltd: 20 Ang Mo Kio Industrial Park 2A, #04-28, AMK TECH LINK, Singapore 555854 54 Serangoon North Ave 4, Unit 06-31, Cyberhub North, Singapore 555854

6. Action Global Co., Limited: C/O Win Sino. Flat 12, 9/F, PO Hong Centre, 2 Wang Tung Street, Kowloon Bay KLN, Hong Kong Flat/RM 1510A, 15/F Ho King COMM Ctr, 2-16 Fa Yuen Street, Mongkok, KL, Hong Kong 520 Sims Avenue, #02-04, Singapore 387580

Pursuant to Section 766.24(b) of the Regulations, BIS may issue a TDO upon a showing that the order is necessary in the public interest to prevent an “imminent violation” of the Regulations. 15 CFR 766.24(b)(1). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that “the violation under investigation or charges is significant, deliberate, covert and/or likely to occur again, rather than technical or negligent [.]” Id. A “lack of information establishing the precise time a violation may occur does not preclude a finding that a violation is imminent, so long as there is sufficient reason to believe the likelihood of a violation.” Id.

BIS has presented evidence that on multiple occasions between March 2008 and October 2009, Corezing, its directors, officers and employees, and companies that conspired with Corezing have procured and attempted to procure U.S.-origin semiconductor power amplifiers, digital signal processors, and related components for export from the United States to the People's Republic of China (“China”), via transshipment through Singapore and Hong Kong, without the licenses required under the Regulations. The power amplifiers, digital signal processors, and components are subject to the Regulations and are classified under Export Control Classification Numbers (“ECCN”) 3A001b.2.c and 3A001.b.2.d and 3A001.a.2.c. These items are controlled for National Security reasons and required a BIS license for export to China in accordance with Section 742.4 of the Regulations. No BIS licenses were obtained for any of these transactions.

OEE, through its investigation, has provided evidence that Corezing directors, officers and/or employees, including Kow Seng Lim (shareholder and a Singapore Director), Zhenyong Zhou (a Hong Kong Director) and Jie Luo (a Hong Kong Director and Manager), have been directly involved in the procurement of the items from the United States and have provided suppliers, exporters and distributors with false information regarding the ultimate destination and end-user of the items.

Evidence obtained from Corezing Directors Kow Seng Lim and Zhenyong Zhou indicates that all Triquint brand power amplifiers and components procured by Corezing were for customers in China, rather than Hong Kong or Singapore. To conceal that the country of ultimate destination for the items was China, Corezing has used various tactics or stratagems, including providing, both directly and through others, false end-user statements to U.S. exporters and suppliers. By intentionally providing such false information to U.S. exporters, Corezing caused false statements to be made on shipper's export declarations (“SED's”) filed with the U.S. Government concerning the ultimate consignee and the country of ultimate destination. These actions were deliberately taken by Corezing, acting through Kow Seng Lim, Zhenyong Zhou, and Jie Luo, in order to avoid detection by law enforcement authorities, and are evidence of the covert nature of the Respondents' conduct.

Evidence obtained by BIS also indicates that Corezing had actual knowledge that the items were subject to export controls and required a license for export to China. Corezing made statements to U.S. exporters and suppliers in connection with these transactions and attempted transactions indicating its knowledge of the Regulations and applicable licensing requirements. Corezing also had direct knowledge of the Regulations based upon a post-shipment verification visit from BIS officials in January 2007. Corezing officials, including its owner, were instructed by BIS on issues such as the transshipment of U.S. items and commodities to third countries. Moreover, Kow Seng Lim's correspondence with a U.S. supplier indicated that he would not travel to the U.S. for fear of being arrested and prosecuted for his dealings in sensitive items. Such awareness by Respondents that their actions were contrary to U.S. export control law provides additional support for the need to issue a temporary denial order.

Corezing's acquisition of U.S.-origin items include its March 28, 2008 receipt of two Triquint power amplifiers, controlled under ECCN 3A001, from the United States. The SED improperly listed Corezing as the ultimate consignee and falsely described the items as “phosphides,” rather than the controlled amplifiers. In December 2008, Corezing issued a purchase order with another U.S. exporter for additional Triquint amplifiers. Corezing Director Zhenyong Zhou instructed the U.S. exporter not to tell Triquint (the manufacturer) that the power amplifiers were for Corezing and to be careful in dealing with Triquint since “they are very smart” and will ask questions on the end-use and end-user of the items. Jie Luo, whom Zhenyong Zhou describes as his boss, was personally involved in the negotiations and was told by the U.S. exporter that the items sought by Corezing were controlled for export by the United States Government. Jie Luo also confirmed statements made by Kow Seng Lim and Zhenyong Zhou that the items were destined for China.

In the months leading up to April 2009, Corezing conspired with Insight Electronics Pte Ltd. (“Insight”) to obtain U.S.-origin digital signal processors from the United States by providing false information regarding the end-user and destination for the items. Corezing originally sought the items, which are controlled under ECCN 3A001, from the U.S. manufacturer's distributor in Singapore, stating that the items were for the “Chinese Market.” Shortly after an employee of the distributor in Singapore informed Corezing Director Kow Seng Lim that they would not sell the items to Corezing directly, a purchase order for the same exact items was submitted inserting Insight as the party to be billed and to receive the items in Singapore. The end-use/end-user certificate also falsely listed Insight as the “end-customer.”

Evidence shows that on or about June 25, 2009, Zhenyong Zhou, acting on behalf of Corezing, continued to seek Triquint power amplifiers controlled under ECCN 3A001 without providing end-user statements or acquiring an export license. Correspondence with the U.S. exporter shows that Zhenyong Zhou and Kow Seng Lim made statements confirming that the destination of the amplifiers was China and confirming their knowledge that the items required an export license. This shipment was detained in late August 2009 by law enforcement. Subsequent correspondence from Corezing and its Chinese customer to the U.S. exporter demonstrates that Corezing intended to evade the Regulations. Specifically, Corezing instructed the U.S. exporter to falsely tell U.S. authorities that the items were for an end-user in Hong Kong, a fact which further indicates Respondents' knowledge of the Regulations and willingness to evade their requirements. No export licenses were obtained for any of the transactions discussed above.

Evidence uncovered during the investigation reveals that Corezing continues to use a variety of tactics or stratagems to acquire or attempt to acquire restricted U.S.-origin items. Corezing has conspired with at least two additional companies, Insight and Action Global Co., Limited (“Action Global”), in order to circumvent U.S. export control laws and to make further efforts to avoid detection by U.S. law enforcement authorities. In addition to the transaction involving Insight described above, on at least three occasions between August 2009 and October 2009, requests for the same type and model of equipment originally sought by Corezing were shortly thereafter made in the name of Action Global and Insight, rather than in Corezing's name, after shipments destined for Corezing had been detained by U.S. law enforcement or after a U.S. exporter had stopped doing business with Corezing.

Moreover, in addition to acting in concert with Corezing as described above, Action Global also is related to Corezing. It shares a common address with Corezing in Hong Kong, and Respondent Jie Luo is listed as a Director of both Corezing and Action Global.

BIS submits, in sum, that future violations of the EAR are imminent based on the evidence of Respondents' extensive, continued and covert efforts to obtain restricted, national-security controlled items from the United States without the required BIS licenses, including by providing false information to U.S. companies in an effort to prevent U.S. law enforcement officials from discovering and ultimately stopping its conduct. I agree and find that the evidence presented by BIS demonstrates that a violation of the Regulations by Respondents is imminent in both time and degree of likelihood. The conduct in this case is deliberate, significant and likely to occur again absent the issuance of a TDO. As such, a TDO is needed to give notice to persons and companies in the United States and abroad that they should cease dealing with the Respondents in export transactions involving items subject to the EAR. Such a TDO is consistent with the public interest to preclude future violations of the EAR.

Accordingly, I find that a TDO naming Corezing International, Kow Seng Lim, Zhenyong Zhou, Jie Luo, Insight Electronics Pte Ltd. and Action Global Co., Limited is necessary, in the public interest, to prevent an imminent violation of the EAR.

This Order is being issued on an ex parte basis without a hearing based upon BIS's showing of an imminent violation.

It is therefore ordered:

FIRST, that, Corezing International also known as (“a/k/a”) Corezing Technology Pte Ltd., a/k/a Corezing International Pte Ltd.., a/k/a Core Zing, a/k/a CoreZing Electronics, and a/k/a Corezing International Group Company, 2021 Butik Batok Street 23, #02-212, Singapore 659626, 111 North Bridge Road, #27-01 Peninsula Plaza, Singapore 179098, 50 East Coast Road, #2-70 Roxy Square, Singapore 428769, Block 1057 Eunos, Avenue 3#02-85, Singapore 409848, G/F, No. 89, Fuyan Street, Kwun Tong, Hong Kong, Flat 12, 9F Po Hong Kong, 2 Wang Tung Street, Kowloon Bay, Hong Kong, Flat/RM B 8/F, Chong Ming Bldg., 72 Cheung Sha Wan Road, KL, Hong Kong, Flat/RM 2309, 23/F, Ho King COMM Center 2-16 Fa Yuen Street, Mongkok KLN, Hong Kong, Room 1007, Block C2, Galaxy Century Bldg., CaiTian Rd., FuTian District, Shenzhen, China, Room1702, Tower B, Honesty Building, Humen, Dongguan, Guangdong, China; Kow Seng Lim a/k/a Eric Lim, a/k/a James Wong, and a/k/a Alvin Stanley, 2021 Butik Batok Street 23, #02-212, Singapore 659626, Block 751 Woodlands Circle, #10-592, Singapore 730751; Zhenyong Zhou a/k/a Benny Zhou, Flat/RM B 8/F, Chong Ming Bldg., 72 Cheung Sha Wan Road, KL, Hong Kong, Room 502, Block 3, Huzhong Emporium, Humen Town, Dongguang City, Guangdong, China ; Jie Luo a/k/a Ivy Luo, G/F, No. 89, Fuyan Street, Kwun Tong, Hong Kong,, Flat 12, 9F Po Hong Kong, 2 Wang Tung Street, Kowloon Bay, Hong Kong, Flat/RM B 8/F, Chong Ming Bldg., 72 Cheung Sha Wan Road, KL, Hong Kong, Flat/RM 2309, 23/F, Ho King COMM Center 2-16 Fa Yuen Street, Mongkok KLN, Hong Kong, RenCai ShiChang DaSha (Building), Baoanbei Road, Luohu Qu, Shenzhen City, Guangdong, China; Insight Electronics Pte Ltd, 20 Ang Mo Kio Industrial Park 2A, #04-28, AMK TECH LINK, Singapore 555854, 54 Serangoon North Ave 4, Unit 06-31, Cyberhub North, Singapore 555854; Action Global Co., Limited, C/O Win Sino. Flat 12, 9/F, PO Hong Centre, 2 Wang Tung Street, Kowloon Bay KLN, Hong Kong, Flat/RM 1510A, 15/F Ho King COMM Ctr, 2-16 Fa Yuen Street, Mongkok, KL, Hong Kong, 520 Sims Avenue, #02-04, Singapore 387580 (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of any Denied Person any item subject to the EAR;

B. Take any action that facilitates the acquisition or attempted acquisition by any Denied Person of the ownership, possession, or control of any item subject to the EAR that has been or will be exported from the United States, including financing or other support activities related to a transaction whereby any Denied Person acquires or attempts to acquire such ownership, possession or control;

C. Take any action to acquire from or to facilitate the acquisition or attempted acquisition from any Denied Person of any item subject to the EAR that has been exported from the United States;

D. Obtain from any Denied Person in the United States any item subject to the EAR with knowledge or reason to know that the item will be, or is intended to be, exported from the United States; or

E. Engage in any transaction to service any item subject to the EAR that has been or will be exported from the United States and which is owned, possessed or controlled by any Denied Person, or service any item, of whatever origin, that is owned, possessed or controlled by any Denied Person if such service involves the use of any item subject to the EAR that has been or will be exported from the United States. For purposes of this paragraph, servicing means installation, maintenance, repair, modification or testing.

Third, that after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on the Respondents and shall be published in the Federal Register.

This Order is effective upon date of publication in the Federal Register and shall remain in effect for 180 days.

Entered this 20th day of November 2009.
Kevin Delli-Colli,
Deputy Assistant Secretary of Commerce for Export Enforcement.

[FR Doc. E9-28605 Filed 11-27-09; 8:45 am]

BILLING CODE 3510-DT-P